DEPARTMENT OF THE INTERIOR

Bureau of Land Management

43 CFR Part 1820

[WO-850-1820-XZ-24-1A]

RIN 1004-AD34

Application Procedures

AGENCY: Bureau of Land Management, Interior.

ACTION: Final rule.

SUMMARY: This administrative final rule amends the regulations pertaining to execution and filing of forms in order to reflect the new address of the California and Montana State Offices of the Bureau of Land Management (BLM). All filings and other documents relating to public lands in California and Montana must be filed at the new address of the State Offices. This rule will have no impact or cost to the public. The benefits of the rule are limited.

EFFECTIVE DATE: May 24, 2001.

FOR FURTHER INFORMATION CONTACT: Kelly Odom, at (202) 452-5028. To reach Ms. Odom, persons who use a telecommunications device for the deaf (TDD) may call the Federal Information Relay Service at 1-800-877-8339, 24 hours a day, 7 days a week.

SUPPLEMENTARY INFORMATION: This administrative final rule reflects the administrative action of changing the addresses of the California and Montana State Offices of BLM. It changes the addresses for the filing of documents relating to public lands in California and Montana, but makes no other changes in filing requirements. Therefore, this amendment is published as a final rule with the effective date shown above.

Because this final rule is an administrative action to change the address for two BLM State Offices, BLM has determined that it has no substantive impact on the public. It imposes no costs, and merely updates a list of addresses included in the Code of Federal Regulations for the convenience of the public. The Department of the Interior, therefore, for good cause finds under 5 U.S.C. 553(b)(B) and 553(d)(3) that notice and public procedure thereon are unnecessary and that this rule may take effect upon publication.

Because this final rule is a purely administrative regulatory action having no effects upon the public or the environment, it has been determined that the rule is categorically excluded from review under section 102(2)(C) of the National Environmental Policy Act (42 U.S.C. 4332(2)(C).

This rule was not subject to review by the Office of Management and Budget under Executive Order 12866.

As required by Executive Order 12630, the Department of the Interior has determined that the rule would not cause a taking of private property. No private property rights would be affected by a rule that merely reports address changes for BLM State Offices. The Department therefore certifies that this proposed rule does not represent a governmental action capable of interference with constitutionally protected property rights.

Further, the Department has determined under the Regulatory Flexibility Act (5 U.S.C. 601, et seq.) that it will not have a significant economic impact on a substantial number of small entities. Reporting address changes for BLM State Offices will not have any economic impact whatsoever.

This rule does not contain information collection requirements that require approval by the Office of Management and Budget under 44 U.S.C. 3501 et seq.

BLM has determined that this rule is not significant under the Unfunded Mandates Reform Act of 1995, because it will not result in the expenditure by State, local, and tribal governments, in the aggregate, or by the private sector, of $100 million or more in any one year. Further, this rule will not significantly or uniquely affect small governments.

List of Subjects in 43 CFR Part 1820

Administrative practice and procedure, Application procedures, Execution and filing of forms, Bureau offices of record.

For the reasons discussed in the preamble, the Bureau of Land Management amends 43 CFR part 1820 as follows:

Dated: May 16, 2001.
Piet deWitt,
Acting Assistant Secretary, Land and Minerals Management.

PART 1820—APPLICATION PROCEDURES

1. The authority citation for Part 1820 continues to read as follows:

Authority: 5 U.S.C. 552, 43 U.S.C. 2, 1201, 1733, and 1740.

Subpart 1821—General Information

2. Section 1821.10(a) is revised to read as follows:

§ 1821.10 Where are BLM offices located?

(a) In addition to the Headquarters Office in Washington, D.C. and seven national level support and service centers, BLM operates 12 State Offices each having several subsidiary offices called Field Offices. The addresses of the State Offices and their respective geographical areas of jurisdiction are as follows:

State Offices and Areas of Jurisdiction

Alaska State Office, 222 West 7th Avenue, #13, Anchorage, AK 99513-7599—Alaska Arizona State Office, 222 North Central Avenue, Phoenix, AZ 85004-2203—Arizona California State Office, 2800 Cottage Way, Suite W-1834, Sacramento, CA 95825-1886—California

Colorado State Office, 2850 Youngfield Street, Lakewood, CO 80215-7093—Colorado

Eastern States Office, 7450 Boston Boulevard, Springfield, VA 22153-3121—Arkansas, Iowa, Louisiana, Minnesota, Missouri, and all States east of the Mississippi River

Idaho State Office, 1387 South Vinnell Way, Boise, ID 83709-1657—Idaho

Montana State Office, 5001 Southgate Drive, P.O. Box 36800, Billings, MT 59101-4669—Montana, North Dakota and South Dakota

Nevada State Office, 1340 Financial Way, Reno, NV 89502-7155—Nevada New Mexico State Office, 1474 Rodeo Road, P.O. Box 27115, Santa Fe, NM 87502-0115—Kansas, New Mexico, Oklahoma and Texas

Oregon State Office, 1515 Southwest 5th Avenue, P.O. Box 2965, Portland, OR 97208-2965—Oregon and Washington

Utah State Office, 324 South State Street, P.O. Box 45155, Salt Lake City, UT 84145-0155—Utah

Wyoming State Office, 5353 Yellowstone Road, P.O. Box 1828, Cheyenne, WY 82003-1823-Wyoming and Nebraska

[FR Doc. 01-12965 Filed 5-23-01; 8:45 am]

BILLING CODE 4310-84-P